DEPARTMENT OF COMMERCE

National Oceanic and Atmospheric Administration

RIN 0648-XF551

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) subgroup on low sampling rates in partial coverage.

DATES: The meeting will be held Thursday, August 3, 2017, from 9 a.m. to 3 p.m. Alaska time.

ADDRESSES: The meeting will be held by teleconference only: (907) 271-2896.

FOR FURTHER INFORMATION CONTACT: Diana Evans, Council staff; telephone: (907) 271-2809.

SUPPLEMENTARY INFORMATION:

Agenda

The agenda will be to discuss progress on the items on the OAC subgroup's workplan, posted here: https://www.npfmc.org/wp-content/PDFdocuments/conservation_issues/Observer/OACSubgroupWorkplan617.pdf.

Meeting will be listening-only for those that are not on the OAC subgroup.

Special Accommodations

The meeting is via teleconference. Request for auxiliary aids should be directed to Maria Shawback at (907) 271-2809 at least 7 working days prior to the meeting date.

Dated: July 17, 2017.
Tracey L. Thompson,
Acting Deputy Director, Office of Sustainable Fisheries, National Marine Fisheries Service.

[FR Doc. 2017-15260 Filed 7-19-17; 8:45 am]

BILLING CODE 3510-22-P